DEPARTMENT OF COMMERCE

National Oceanic and Atmospheric Administration

Submission for OMB Review; Comment Request; Marine Mammal Health and Stranding Response Program

The Department of Commerce will submit the following information collection request to the Office of Management and Budget (OMB) for review and clearance in accordance with the Paperwork Reduction Act of 1995 (44 U.S.C. Chapter 35), on or after the date of publication of this notice. The public is invited to submit comments on this request.

ADDRESSES: Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0178.

FOR FURTHER INFORMATION CONTACT: Copies of this submission may be obtained from Adrienne Thomas, PRA Officer, NOAA, 151 Patton Avenue, Room 159, Asheville, NC 28801, (828) 257-3148 or viewing the entire information collection request at www.reginfo.gov.

SUPPLEMENTARY INFORMATION: Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

Agency: National Oceanic and Atmospheric Administration (NOAA).

Title: Marine Mammal Health and Stranding Response Program, Level A Stranding Report, Rehabilitation Disposition Data Sheet, and Human Interaction Form.

OMB Control Number: 0648-0178.

Form Number(s): None.

Type of Request: Regular submission (extension of an existing collection).

Number of Respondents: 400.

Average Hours per Response: 30 minutes for Stranding Reports and Rehabilitation Disposition Forms; 45 minutes for the Human Interaction Data Sheet.

Burden Hours: 14,600.

Needs and Uses: This request is for revision of this previously approved data collection. All three of the currently approved forms in this collection (the Stranding Report form, Human Interaction Form, and Rehabilitation Disposition Form) have been slightly modified.

The marine mammal stranding report provides information on strandings so that the National Marine Fisheries Service (NMFS) can compile and analyze, by region, the species, numbers, conditions, and causes of illnesses and deaths in stranded marine mammals. NMFS requires this information to fulfill its management responsibilities under the Marine Mammal Protection Act (16 U.S.C. 1421a). Section 402(b) of the MMPA (16 U.S.C. 1421a) requires the Secretary to collect and update information on strandings. It further provides that the Secretary shall compile and analyze, by region, the species, numbers, conditions, and causes of illnesses and deaths in stranded marine mammals. Section 404 (a) of the MMPA (16 U.S.C. 1421c) mandates that the Secretary respond to unusual marine mammal mortality events. Without a historical baseline provided by marine mammal information collected from strandings, detection of such events could be difficult, and the investigation could be impeded. Section 401(b) of the MMPA (16 U.S.C. 1421) requires NMFS to facilitate the collection and dissemination of reference data on the health of marine mammal populations in the wild and to correlate health with physical, chemical, and biological environmental parameters. In order to perform this function, NMFS must standardize data collection protocols for health and correlations. Data and samples collected from stranded animals are a critical part of the implementation of this mandate of the MMPA. Minor edits to the current version of the form are proposed, including beginning to collect live, entangled large whale data in this data collection, streamlining the confidence codes, collecting data on marine debris and entanglement interactions, and minor textual edits to field names to better match the other two forms.

NMFS is also responsible for the welfare of marine mammals while in rehabilitation status. Under MMPA section 104(c)(10) [16 U.S.C. 1374(c)(10)], NMFS is required to maintain an inventory of live marine mammals held under permits for rehabilitation or captive display. The data in the Marine Mammal Rehabilitation Disposition report are required to monitor and track animals during rehabilitation and during transfer to permanent-permitted status. This information is submitted primarily by members of the marine mammal stranding networks which are authorized by NMFS. Minor changes are proposed for this form, including the collection of all pinniped pups born in rehab (previously was only for pups that survived the first 48 hours). Additionally, minor edits to field names were made to better match the other two forms.

The Human Interaction Data Sheet provides NMFS with consistent and detailed information on signs of human interaction in stranded marine mammals. This information will assist the Agency in tracking resource conflicts and will provide a solid scientific foundation for conservation and management of marine mammals. With a better understanding of interactions, appropriate measures can be taken to resolve conflicts and, stranding data are the best source of information regarding the occurrence of different types of human interaction. Minor changes to field names are proposed for this form, to better match the other two forms.

Affected Public: State governments; not-for-profit institutions; business or other for-profits organizations.

Frequency: Annual and periodic. On occasion.

Respondent's Obligation: Mandatory.

Legal Authority: Marine Mammal Protection Act (16 U.S.C. 1421a).

Dated: March 19, 2020.
Sheleen Dumas,
Department PRA Clearance Officer, Office of the Chief Information Officer, Commerce Department.

[FR Doc. 2020-06193 Filed 3-24-20; 8:45 am]

BILLING CODE 3510-22-P